DEPARTMENT OF COMMERCE

International Trade Administration

[A-580-815 & A-580-816]

Notice of Amended Final Results of Antidumping Duty Administrative Reviews: Certain Cold-Rolled and Corrosion-Resistant Carbon Steel Flat Products From Korea

AGENCY: Import Administration, International Trade Administration, Department of Commerce.

ACTION: Notice of Amendment to Final Results of Antidumping Duty Administrative Reviews.

SUMMARY: The Department of Commerce (“Department”) is amending its final results of reviews, published March 13, 2000, of the antidumping duty orders on cold-rolled and corrosion-resistant carbon steel flat products from Korea, to reflect the correction of ministerial errors in those final results. The period covered by these amended final results is August 1, 1997 through July 31, 1998.

EFFECTIVE DATE: April 25, 2000.

FOR FURTHER INFORMATION CONTACT: Juanita Chen (Dongbu), Becky Hagen (the POSCO Group), Robert Bolling, or James Doyle, Enforcement Group III, Office 9, Import Administration, International Trade Administration, U.S. Department of Commerce, 1401 Constitution Avenue, N.W., Washington, D.C. 20230, telephone 202-482-0409 (Chen), 202-482-3362 (Hagen), 202-482-3434 (Bolling), or 202-482-0159 (Doyle), fax 202-482-1388.

SUPPLEMENTARY INFORMATION:

Applicable Statute

Unless otherwise indicated, all citations to the Tariff Act of 1930 (“Act”) are references to the provisions effective January 1, 1995, the effective date of the amendments made to the Act by the Uruguay Round Agreements Act (“URAA”). In addition, unless otherwise indicated, all citations to the Department's regulations are to the regulations at 19 CFR Part 351 (1998).

Scope of the Reviews

The review of “certain cold-rolled carbon steel flat products” covers cold-rolled (cold-reduced) carbon steel flat-rolled products, of rectangular shape, neither clad, plated nor coated with metal, whether or not painted, varnished or coated with plastics or other nonmetallic substances, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (“HTS”) under item numbers 7209.15.0000, 7209.16.0030, 7209.16.0060, 7209.16.0090, 7209.17.0030, 7209.17.0060, 7209.17.0090, 7209.18.1530, 7209.18.1560, 7209.18.2550, 7209.18.6000, 7209.25.0000, 7209.26.0000, 7209.27.0000, 7209.28.0000, 7209.90.0000, 7210.70.3000, 7210.90.9000, 7211.23.1500, 7211.23.2000, 7211.23.3000, 7211.23.4500, 7211.23.6030, 7211.23.6060, 7211.23.6085, 7211.29.2030, 7211.29.2090, 7211.29.4500, 7211.29.6030, 7211.29.6080, 7211.90.0000, 7212.40.1000, 7212.40.5000, 7212.50.0000, 7215.50.0015, 7215.50.0060, 7215.50.0090, 7215.90.5000, 7217.10.1000, 7217.10.2000, 7217.10.3000, 7217.10.7000, 7217.90.1000, 7217.90.5030, 7217.90.5060, 7217.90.5090. Included in this review are flat-rolled products of nonrectangular cross-section where such cross-section is achieved subsequent to the rolling process (i.e., products which have been “worked after rolling”)—for example, products which have been beveled or rounded at the edges. Excluded from this review is certain shadow mask steel, i.e., aluminum-killed, cold-rolled steel coil that is open-coil annealed, has a carbon content of less than 0.002 percent, is of 0.003 to 0.012 inch in thickness, 15 to 30 inches in width, and has an ultra flat, isotropic surface.

The review of “certain corrosion-resistant carbon steel flat products” covers flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the HTS under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this review are flat-rolled products of nonrectangular cross-section where such cross-section is achieved subsequent to the rolling process (i.e., products which have been “worked after rolling”)—for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

These HTS item numbers are provided for convenience and U.S. Customs purposes. The written descriptions remain dispositive.

Amendment of Final Results

On March 13, 2000, the Department published the final results of its administrative reviews of the antidumping duty orders on certain cold-rolled and corrosion-resistant carbon steel flat products from Korea, for the period August 1, 1997 through July 31, 1998. See Certain Cold-Rolled and Corrosion-Resistant Carbon Steel Flat Products from Korea: Final Results of Antidumping Duty Administrative Reviews, 65 FR 13359 (March 13, 2000) (“final results”). The reviews covered shipments of subject merchandise by Dongbu Steel Co., Ltd. (“Dongbu”), Union Steel Manufacturing Co., Ltd. (“Union”), and Pohang Iron and Steel Co., Ltd. (“POSCO”). (POSCO and the companies collapsed with POSCO (Pohang Coated Steel Co., Ltd. (“POCOS”) and Pohang Steel Industries Co., Ltd. (“PSI”)), are collectively referred to as “the POSCO Group”.)

On March 14, 2000, the POSCO Group submitted a clerical error allegation. On March 15, 2000, Petitioners alleged ministerial errors in the final results for Dongbu. On March 20, 2000, Dongbu responded to Petitioners' allegations. The allegations and rebuttal comments were filed in a timely fashion.

Dongbu

Comment 1: Petitioners argue that the Department erred in its calculations for corrosion-resistant products by incorrectly setting the comparison window of time for matching U.S. sales with home market sales. Dongbu argues that the Department's programming on this issue in the final results remains the same as it was in the preliminary results. Dongbu argues that by failing to raise the issue in their case brief, Petitioners are barred from raising the issue now.

Department's Position: After a review of the allegation and response, we agree with Petitioners and have corrected the comparison window in our program. For the computer code we used to correct this ministerial error, see the Memorandum from Juanita Chen to Edward Yang, dated March 22, 2000 (“Amended Final Results Analysis Memorandum”), a public version of which is available in the Central Records Unit, Room B-099 of the Department of Commerce building, 14th Street and Constitution Ave, N.W., Washington, D.C.

Comment 2: Petitioners argue that the Department erred in its calculations for corrosion-resistant products by excluding from its analysis certain home market sales which should have been included because the Department compared prices for those sales in U.S. dollars to an amount in Korean won for purposes of the arm's length test. Petitioners state that the Department should amend its final results to convert the home market price in U.S. dollars to Korean won before determining whether such sales should be excluded from its margin calculation. Dongbu argues that the Department's programming on this issue in the final results remains the same as it was in the preliminary results. Dongbu argues that by failing to raise the issue in their case brief, Petitioners are barred from raising the issue now.

Department's Position: We agree with Petitioners. The home market price values reported in U.S. dollars should have been converted to Korean won before those values were compared to an amount in Korean won for the purposes of determining which home market sales should be eliminated because, inter alia, they were not made at arm's length. Accordingly, we have converted these home market sales from U.S. dollars to Korean won before determining which home market sales to exclude from our margin calculation. For the computer code we used to correct this ministerial error, see the Amended Final Results Analysis Memorandum, a public version of which is available in the Central Records Unit, Room B-099 of the Department of Commerce building, 14th Street and Constitution Ave, N.W., Washington, D.C.

POSCO

Comment 3: The POSCO Group argues that the Department erred in its calculations for cold-rolled products by incorrectly matching the quality physical characteristic for home market and U.S. sales.

Department's Position: We agree with the POSCO Group and have corrected our model match program to reflect the proper quality physical matching characteristic for the home and U.S. markets. For the computer code we used to correct this ministerial error, see the Memorandum from Becky Hagen to Edward Yang, dated March 21, 2000, a public version of which is available in the Central Records Unit, Room B-099 of the Department of Commerce building, 14th Street and Constitution Ave, N.W., Washington, D.C.

Amended Final Results of Review

As a result of the corrections, we have determined that duty absorption has occurred with respect to the percentages of sales shown below which were made through Respondents' U.S. affiliates and which had positive dumping margins:

Producer/manufacturer/exporter | Percentage of U.S. affiliate's sales with dumping margins
Certain Cold-Rolled Carbon Steel Flat Products: The POSCO Group | 1.16
Certain Corrosion-Resistant Carbon Steel Flat Products:
Dongbu | 20.68
The POSCO Group | 6.85

The percentages for Union remain unchanged from the final results. Additionally, we have determined that the following weighted-average margins exist for the period August 1, 1997 through July 31, 1998:

Producer/manufacturer/exporter | Weighted-average percent margin
Certain Cold-Rolled Carbon Steel Flat Products:
Dongbu | 0.00
The POSCO Group | 0.10
Certain Corrosion-Resistant Carbon Steel Flat Products:
Dongbu | 1.42
The POSCO Group | 0.68

The weighted-average margins for Union remain unchanged from the final results.

The Department shall determine, and the U.S. Customs Service (“Customs”) shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant order during the review period. Notwithstanding the previous sentence, and pursuant to 19 CFR 351.106(c)(2), we will instruct Customs to liquidate without regard to antidumping duties all entries of subject merchandise made during the August 1, 1997 through July 31, 1998 review period which were made by any person for which the importer-specific assessment rate calculated in accordance with 19 CFR 351.212(b)(1) is less than 0.5 percent ad valorem, or the equivalent specific rate.

Cash Deposit Requirements

The following deposit requirements will be effective upon publication of this notice of amended final results of administrative reviews for all shipments of cold-rolled and corrosion-resistant carbon steel flat products from Korea entered, or withdrawn from warehouse, for consumption on or after the date of publication, as provided by section 751(a)(1) of the Act: (1) The cash deposit rates for the reviewed companies will be the rates shown above except that, for firms whose weighted-average margins are less than 0.5 percent and therefore de minimis, the Department shall require no deposit of estimated antidumping duties; (2) for previously reviewed or investigated companies not listed above, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be 14.44 percent (for certain cold-rolled carbon steel flat products) or 17.70 percent (for certain corrosion-resistant carbon steel flat products). These rates are the “all others” rates from the LTFV investigations. See Antidumping Duty Orders on Certain Cold-Rolled Carbon Steel Flat Products and Certain Corrosion-Resistant Carbon Steel Flat Products from Korea, 58 FR 44159 (August 19, 1993).

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APO”) of their responsibility concerning the return or destruction of proprietary information disclosed under APO in accordance with 19 CFR 351.305 or conversion to judicial protective order is hereby requested. Failure to comply with the regulations and terms of an APO is a violation which is subject to sanction.

We are issuing and publishing this determination and notice in accordance with sections 751(a)(1) and 777(i) of the Act.

Dated: April 14, 2000.
Troy H. Cribb,
Acting Assistant Secretary for Import Administration.

[FR Doc. 00-10300 Filed 4-24-00; 8:45 am]

BILLING CODE 3510-DS-P